DEPARTMENT OF ENERGY

Federal Energy Regulatory Commission

[Project No. 11841-002 Alaska]

Ketchikan Public Utilities; Notice of Availability of Environmental Assessment

June 19, 2007.

In accordance with the National Environmental Policy Act of 1969, as amended, and the Federal Energy Regulatory Commission's (Commission or FERC) regulations, 18 CFR part 380, Commission staff has reviewed the application for a license for the proposed Whitman Lake Hydroelectric Project (FERC no. 11841-002) and has prepared an environmental assessment (EA) for the project. The project would be located on Whitman Creek, approximately 4 miles east of the City of Ketchikan, Alaska. The project would occupy 155.8 acres of lands of the United States, 155 acres administered by the U.S. Department of Agriculture, Forest Service (Forest Service) and 0.8 acres administered by the U.S. Bureau of Land Management (BLM).

The EA contains the staff's analysis of the potential environmental effects of the proposed project and concludes that licensing the project, with appropriate environmental protective measures, would not constitute a major federal action that would significantly affect the quality of the human environment.

Copies of the EA are available for review in Public Reference Room 2-A of the Commission's offices at 888 First Street, NE., Washington, DC. The EA may also be viewed on the Commission's Internet Web site (http://www.ferc.gov) using the “eLibrary” link. Enter the docket number excluding the last three digits in the docket number field to access the document. Additional information about the project is available from the Commission's Office of External Affairs, at (202) 502-6088, or on the Commission's website using the eLibrary link. For assistance with eLibrary, contact FERCOnlineSupport@ferc.gov or toll-free at (866) 208-3676; for TTY contact (202) 502-8659.

Any comments on the EA should be filed within 30 days from the date of this notice and should be addressed to Kimberly D. Bose, Secretary, Federal Energy Regulatory Commission, 888 First Street, NE., Room 1-A, Washington, DC 20426. Please affix “Whitman Lake Hydroelectric Project No. 11841-002” to all comments. Comments may be filed electronically via Internet in lieu of paper. The Commission strongly encourages electronic filings. See 18 CFR 385.2001(a)(1)(iii) and the instructions on the Commission's Web site under the “e-Filing” link.

For further information, contact Kenneth Hogan at (202) 502-8434 or by e-mail at kenneth.hogan@ferc.gov.

Kimberly D. Bose,
Secretary.

[FR Doc. E7-12303 Filed 6-25-07; 8:45 am]

BILLING CODE 6717-01-P